ENVIRONMENTAL PROTECTION AGENCY

[FRL-7426-2]

Clean Air Act Operating Permit Program; Petition for Objection to Wyoming State Operating Permit for the Buckingham Lumber Company, Buffalo, WY

AGENCY: Environmental Protection Agency (EPA).

ACTION: Notice of final order on petition to object to State of Wyoming operating permit.

SUMMARY: This document announces that the EPA Administrator has issued an order in response to a petition to object to a state operating permit issued by the Wyoming Department of Environmental Quality (WDEQ) for the Buckingham Lumber Company's teepee burner, located in Buffalo, Wyoming. Pursuant to section 505(b)(2) of the Clean Air Act (Act), the petitioner may seek judicial review of this petition response in the United States Court of Appeals for the Tenth Circuit. Any petition must be filed within 60 days of the date this document appears in the Federal Register, pursuant to section 307(d) of the Act.

ADDRESSES: You may review copies of the final order, the petition, and other supporting information at the Environmental Protection Agency, Region 8, 999 18th Street, Suite 300, Denver, Colorado 80201-2466. If you wish to examine these documents, you should make an appointment at least 24 hours before visiting day. The final order is also available electronically at each of the following two addresses: http://www.epa.gov/region7/programs/artd/air/title5/petitiondb/petitions/buckingham_decision2002.pdf, and http://www.epa.gov/region7/programs/artd/air/title5/petitiondb/petitiondb2002.htm.

FOR FURTHER INFORMATION CONTACT: Christopher Ajayi, Environmental Engineer, Air and Radiation Section, Office of Partnerships and Regulatory Assistance, Mail Code 8P-AR, U.S. Environmental Protection Agency, Region 8, 999 18th Street, Suite 300, Denver, Colorado 80202-2466, telephone (303) 312-6320, or e-mail at ajayi.christopher@epa.gov.

SUPPLEMENTARY INFORMATION: The Clean Air Act (Act) affords EPA a 45-day period to review and object to, as appropriate, operating permits proposed by state permitting authorities. Section 505(b)(2) of the Act authorizes any person to petition the EPA Administrator within 60 days after the expiration of this review period to object to state operating permits if EPA has not done so. Petitions must be based only on objections to the permit that were raised with reasonable specificity during the public comment period provided by the state, unless the petitioner demonstrates that it was impracticable to object during the comment period or that the grounds for the objection or other issue arose after this period.

The Buffalo Committee to Stop Sawmill Burning, (“Committee”) submitted a petition to the Administrator on April 24, 2002, requesting that EPA object to the modified Title V operating permit issued for Buckingham Lumber Company's teepee burner in Buffalo, Wyoming. The petition objects to issuance of the proposed permit on the following grounds:

1. The permit fails to assure continuous compliance with opacity limits applicable to teepee burners under Wyoming Chapter 6, section 3(h)(i)(C)(I)(2) of the WAQSR, and 40 CFR 70.6(a)(3)(i)(B),

2. Provisions allowing emissions exceptions during “malfunction,” “abnormal conditions,” and “breakdown of a process, control or related operating equipment” may be inconsistent with EPA policy, and

3. Claims of “new information” about emissions at the Town of Buffalo show a need for continuous monitoring.

On November 1, 2002, the Administrator issued an order partially granting and partially denying the petition. First, the Administrator granted the petition insofar as it claimed that the Buckingham Lumber Company permit does not provide for adequate opacity monitoring. Therefore, the State of Wyoming is ordered to modify the permit to include monitoring of emissions opacity that is “sufficient to yield reliable data * * * that are representative of the source's compliance with the permit.”

Second, the Administrator's order denied the petitioner's claims that permit provisions allowing emissions exceptions during “malfunction,” “abnormal conditions,” and “breakdown of a process, control or related operating equipment” may be inconsistent with EPA policy. These emissions exception provisions of the permit mirror those promulgated in the State of Wyoming's State Operating Plan (“SIP”); therefore, this claim in the petition is denied. However, since the permitting process under Title V of the Clean Air Act does not allow the Administrator to object to permit provisions that are part of the Wyoming SIP, the order requires EPA Region 8 to review the SIP itself to determine whether emissions exception provisions are contrary to EPA policy.

Finally, the Administrator's order denies the petition's claim that “new information” about smoke filling the town of Buffalo, Wyoming, and the source's compliance history show a need for continuous monitoring. The petitioner's request is denied because the issue of monitoring has been adequately addressed above, and petitioners failed to demonstrate that any applicable requirement is missing from the permit or that the permit otherwise fails to comply with the requirements of the regulation.

Additional explanation for the Administrator's decision can be found in the order.

Patricia D. Hull,
Acting Regional Administrator, Region 8.

[FR Doc. 02-32261 Filed 12-20-02; 8:45 am]

BILLING CODE 6560-50-P